DEPARTMENT OF TRANSPORTATION

Pipeline and Hazardous Materials Safety Administration

Notice of Application for Special Permits

AGENCY: Pipeline and Hazardous Materials Safety Administration (PIIMSA), DOT.

ACTION: List of Applications for Special Permits

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before February 19, 2013.

Address Comments To: Record Center, Pipeline and Hazardous Materials Safety Administration, U.S. Department of Transportation, Washington, DC 20590.

Comments should refer to the application number and be submitted in triplicate. If confirmation of receipt of comments is desired, include a self-addressed stamped postcard showing the special permit number.

For Further Information: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on January 9, 2013.
Donald Burger,
Chief, General Approvals and Permits.

Application No. | Docket No. | Applicant | Regulation(s) affected | Nature of special permits thereof
NEW SPECIAL PERMITS
15773-N |  | Roche Molecular Systems, Inc. Branchburg, NJ | 49 CFR 173.242(e)(1) | To authorize the transportation in commerce of PG II corrosive materials described as Potassium Hydroxide Solution, UN 1814 and Sodium Hydroxide Solution, UN 1824 in a UN 50G Fiberboard Large Packaging. (modes 1, 2, 3)
15775-N |  | PHI, Inc. Lafeyette, LA | 49 CFR 175.75(e)(3)(i), (ii), and (iii); 175.700(a) | To authorize the use of aircraft requiring more than one pilot to remote oil and gas drilling platforms. (mode 4)
15778-N |  | Northwest Helicopters, LLC Olympia, WA | 49 CFR § 172.101 Column (9B), § 172.204(c)(3), § 173.27(b)(2), § 175.30(a)(1), §§ 172.200, 172.300, 172.400, 173.302(f)(3) and § 175.75 | To authorize the transportation in commerce of certain hazardous materials by Part 133 Rotorcraft External Load Operations, attached to or suspended from an aircraft, in remote areas of the US without meeting certain hazard communication and stowage requirements. (mode 4)
15779-N |  | Patterson Logistics Service, Inc. Boone, IA | 49 CFR 173.304a | To authorize the transportation in commerce of approximately 254 non-DOT Specification non-refillable metal reeptacles containing a flammable gas that meet DOT 2Q but are not marked with the specification. (modes 1, 3)
15788-N |  | Amtrol-Alfa, Metalomecanica SA Portugal | 49 CFR 173.302a(a)(1), 180.205 | To authorize the manufacture, marking, sale, and use of non-DOT specification fully-wrapped carbon fiber reinforced welded steel liner cylinders that meets all requirements of ISO 11119-2. (modes 1, 2, 3, 4, 5)

[FR Doc. 2013-00706 Filed 1-16-13; 8:45 am]

BILLING CODE 4909-60-M